DEPARTMENT OF STATE

[Public Notice 4820]

Announcement of meetings of the International Telecommunication Advisory Committee

Summary: The International Telecommunication Advisory Committee (ITAC) will meet on Wednesday, October 27, 2004, 2-4 p.m., at a Washington location to be announced. A detailed agenda and the meeting location will be published on the e-mail reflector pcci-citel@eblist.state.gov and pccii-citel@eblist.state.gov. The meeting is being held to prepare positions for the upcoming meeting of the Permanent Executive Committee of the Inter-American Telecommunication Commission (November 30-December 3, 2004).

Members of the public will be admitted to the extent that seating is available, and may join in the discussions, subject to the instructions of the Chair. Those desiring to attend the meeting who are not on this list may request the information from the Secretariat at minardje@state.gov. Directions to the meeting location may be obtained by calling the ITAC Secretariat at (202) 647-2592 or e-mail to mccorklend@state.gov.

Dated: October 6, 2004.
Doreen McGirr,
Director, ITU Telecommunication Development Affairs, International Communications & Information Policy, Department of State.

[FR Doc. 04-23044 Filed 10-13-04; 8:45 am]

BILLING CODE 4710-45-P